DEPARTMENT OF ENERGY

Federal Energy Regulatory Commission

[Docket No. RP01-232-000]

Northwest Pipeline Corporation; Notice of Proposed Changes in FERC Gas Tariff

February 26, 2001.

Take not that on February 16, 2001, Northwest Pipeline Corporation (Northwest) tendered for filing as part of its FERC Gas Tariff, Third Revised Volume No. 1, the following tariff sheets, to be effective March 19, 2001:

Second Revised Sheet No. 16

Fourth Revised Sheet No. 17

Seventh Revised Sheet No. 18

Second Revised Sheet No. 18-A

First Revised Sheet No. 30

Second Revised Sheet No. 100

Original Sheet No. 100-A

Third Revised Sheet No. 254

Fourth Revised Sheet No. 255

Fourth Revised Sheet No. 256

Northwest states that the purpose of this filing to withdraw the tariff sheets which Northwest submitted to the Commission on January 26, 2001, in Docket No. RP01-214-000, and to replace those sheets with the proposed tariff sheets listed above, which better describe Northwest's proposed facilities reimbursement policies and procedures.

Northwest states that a copy of this filing has been served upon each person designated on the official service list compiled by the Secretary in this proceeding.

Any person desiring to be heard or to protest said filing should file a motion to intervene or a protest with the Federal Energy Regulatory Commission, 888 First Street, N.E., Washington, D.C. 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us.efi/doorbell.htm.

David P. Boergers,
Secretary.

[FR Doc. 01-5099 Filed 3-1-01; 8:45 am]

BILLING CODE 6717-01-M